DEPARTMENT OF COMMERCE

International Trade Administration

[C-122-839]

Certain Softwood Lumber Products from Canada: Extension of Time Limit for Preliminary Results of Countervailing Duty Administrative Review

AGENCY: Import Administration, International Trade Administration, Department of Commerce.

ACTION: Notice of Extension of Time Limit for Preliminary Results of Countervailing Duty Administrative Review.

EFFECTIVE DATE: January 16, 2004.

FOR FURTHER INFORMATION CONTACT: Stephanie Moore at (202) 482-3692, AD/CVD Enforcement, Office VI, Group II, Import Administration, International Trade Administration, U.S. Department of Commerce, 14th Street and Constitution Avenue, NW, Washington, DC 20230.

SUPPLEMENTARY INFORMATION:

Time Limits

Section 751(a)(3)(A) of the Tariff Act of 1930, as amended (the Act), requires the Department to issue the preliminary results of a review within 245 days after the last day of the anniversary month of an order/finding for which a review is requested and the final results within 120 days after the date on which the preliminary results are published. However, if it is not practicable to complete the review within that time period, section 751(a)(3)(A) of the Act allows the Department to extend the time limit for the preliminary results to a maximum of 365 days and for the final results to 180 days (or 300 days if the Department does not extend the time limit for the preliminary results) from the date of the publication of the preliminary results.

Background

On June 26, 2003, the Department initiated an administrative review of the countervailing duty order on certain softwood lumber products from Canada. See Initiation of Antidumping and Countervailing Duty Administrative Reviews and Request for Revocation in Part, 68 FR 39055 (July 1, 2003). The preliminary results are currently due no later than February 2, 2004.

Extension of Time Limit for Preliminary Results of Review

The subsidy programs covered by this review are extraordinarily complicated. Further, petitioners have made several new subsidy allegations in this review. In addition, because this administrative review is being conducted on an aggregate level, the Department must analyze large amounts of data from each of the Canadian Provinces as well as data from the Canadian Federal Government. Furthermore, the Department intends to conduct a limited number of reviews of individual companies who claimed to have received zero or de minimis subsidies. Therefore, the Department is extending the time limits for completion of the preliminary results to June 1, 2004. See the Decision Memorandum from Melissa G. Skinner, Director, Office of AD/CVD Enforcement VI, to Holly A. Kuga, Acting Deputy Assistant Secretary for AD/CVD Enforcement Group II, dated concurrent with this notice, which is on file in the Central Records Unit.

This extension is in accordance with section 751(a)(3)(A) of the Act.

Dated: January 8, 2004.
Holly A. Kuga,
Acting Deputy Assistant Secretary for AD/CVD Enforcement Group II.

[FR Doc. 04-1025 Filed 1-15-04; 8:45 am]

BILLING CODE 3510-DS-S